DEPARTMENT OF THE INTERIOR

Bureau of Ocean Energy Management

[MMAA104000]

Outer Continental Shelf Official Protraction Diagrams and Supplemental Official Outer Continental Shelf Block Diagrams

AGENCY: Bureau of Ocean Energy Management (BOEM), Interior.

ACTION: Availability of revised North American Datum of 1927 (NAD 27) Outer Continental Shelf Official Protraction Diagrams and Supplemental Official Outer Continental Shelf Block Diagrams.

SUMMARY: Notice is hereby given that effective with this publication, the following NAD 27-based Outer Continental Shelf (OCS) Official Protraction Diagrams (OPDs) and Supplemental Official OCS Block Diagrams (SOBDs) located in the Gulf of Mexico with revision date as indicated, are now available. The BOEM, in accordance with its authority and responsibility under the Outer Continental Shelf Lands Act, 43 USC 1331 et seq., is updating the basic record used for the description of renewable energy, mineral, and oil and gas lease sales in the geographic areas they represent. Specifically, the 1.4 nautical mile “Area” designation as described in Article IV, Paragraph 1, of the Treaty between the United States of America and the United Mexican States on the delimitation of the continental shelf in the Western Gulf of Mexico beyond 200 nautical miles, signed June 9, 2000, has been removed from the Keathley Canyon, Sigsbee Escarpment, and Amery Terrace OPDs and associated SOBDs. Other information associated with the “Area” has been removed as well. Article IV, Paragraph 1, prohibited exploration and development in the “Area.” Pursuant to a Note signed by the U.S. and Mexico on June 22, 2010, Article IV, Paragraph 1, of the 2000 Treaty was due to expire on January 17, 2014. The expiration date was extended by exchange of diplomatic notes on January 17, 2014, to July 17, 2014, or until the day the Agreement between the United States of America and the United Mexican States Concerning Transboundary Hydrocarbon Reservoirs in the Gulf of Mexico enters into force, whichever is sooner. Due to the upcoming expiration of Article IV, Paragraph 1, of the Treaty, BOEM is updating relevant OPDs and SOBDs accordingly.

Outer Continental Shelf Official Protraction Diagrams in the Gulf of Mexico

Description/Date

NG15-05 (Keathley Canyon)—July 1, 2013

NG15-08 (Sigsbee Escarpment)—July 1, 2013

NG15-09 (Amery Terrace)—July 1, 2013

Supplemental Official Outer Continental Shelf Block Diagrams in the Gulf of Mexico, All Located Within Official Protraction Diagram NG15-05 (Keathley Canyon)

Diagrams Revised/Date/Block Numbers

Article IV “Area” Limit Blocks (Total of 3)—July 1, 2013: 978, 979, 980

Supplemental Official Outer Continental Shelf Block Diagrams in the Gulf of Mexico, All Located Within Official Protraction Diagram NG15-08 (Sigsbee Escarpment)

Diagrams Revised/Date/Block Numbers

Article IV “Area” Limit Blocks (Total of 56)—July 1, 2013: 11, 12, 13, 14, 57, 58, 59, 60, 103, 104, 105, 106, 148, 149, 150, 151, 194, 195, 196, 239, 240, 241, 284, 285, 286, 287, 288, 289, 290, 291, 292, 293, 294, 295, 296, 297, 298, 331, 332, 333, 334, 335, 336, 337, 338, 339, 340, 341, 342, 343, 344, 345, 346, 347, 348, 349

Supplemental Official Outer Continental Shelf Block Diagrams in the Gulf of Mexico, All Located Within Official Protraction Diagram NG15-09 (Amery Terrace)

Diagrams Revised/Date/Block Numbers

Article IV “Area” Limit Blocks (Total of 30)—July 1, 2013: 235, 236, 237, 238, 273, 274, 275, 276, 277, 278, 279, 280, 281, 309, 310, 311, 312, 313, 314, 315, 316, 317, 318, 319, 320, 355, 356, 357, 358, 359

SUPPLEMENTARY INFORMATION: Copies of the revised OPDs and SOBDs are available for download in .pdf format from http://www.boem.gov/Oil-and-Gas-Energy-Program/Mapping-and-Data/Maps-And-Spatial-Data.aspx.

FOR FURTHER INFORMATION CONTACT: Douglas Vandegraft, Chief, Mapping and Boundary Branch at (703) 787-1312 or via email at Doug.Vandegraft@boem.gov.

Dated: May 20, 2014.
Walter D. Cruickshank,
Acting Director, Bureau of Ocean Energy Management.

[FR Doc. 2014-13001 Filed 6-4-14; 8:45 am]

BILLING CODE 4310-MR-P